DEPARTMENT OF HOMELAND SECURITY

Coast Guard

[USCG-2007-27793]

Collection of Information Under Review by Office of Management and Budget: OMB Control Numbers 1625-0002, 1625-0017, 1625-0030, 1625-0072, and 1625-0078

AGENCY: Coast Guard, DHS.

ACTION: Request for comments.

SUMMARY: In compliance with the Paperwork Reduction Act of 1995, the U.S. Coast Guard intends to submit Information Collection Requests (ICRs) to the Office of Management and Budget (OMB) requesting an extension of their approval for the following collections of information: (1) 1625-0002, Application for Vessel Inspection, Waiver, and Continuous Synopsis Record; (2) 1625-0017, Various International Agreement Safety Certificates and Documents; (3) 1625-0030, Oil and Hazardous Materials Transfer Procedures; (4) 1625-0072, Waste Management Plans, Refuse Discharge Logs, and Letters of Instruction for Certain Persons-in-Charge (PIC); and (5) 1625-0078, Licensing and Manning Requirements for Officers on Towing Vessels. Before submitting these ICRs to OMB, the Coast Guard is inviting comments as described below.

DATES: Comments must reach the Coast Guard on or before June 11, 2007.

ADDRESSES: To make sure your comments and related material do not enter the docket [USCG-2007-27793] more than once, please submit them by only one of the following means:

(1) By mail to the Docket Management Facility, U.S. Department of Transportation (DOT), room PL-401, 400 Seventh Street, SW., Washington, DC 20590-0001.

(2) By delivery to room PL-401 on the Plaza level of the Nassif Building, 400 Seventh Street, SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

Copies of complete ICRs are available through this docket on the Internet at http://dms.dot.gov, and also from Commandant (CG-611), U.S. Coast Guard Headquarters, room 10-1236 (Attn: Mr. Arthur Requina), 2100 2nd Street, SW., Washington, DC 20593-0001. The telephone number is 202-475-3523.

FOR FURTHER INFORMATION CONTACT: Mr. Arthur Requina, Office of Information Management, telephone 202-475-3523, or fax 202-475-3929, for questions on these documents; or telephone Ms. Renee V. Wright, Program Manager, Docket Operations, 202-493-0402, for questions on the docket.

SUPPLEMENTARY INFORMATION:

Public Participation and Request for Comments

We encourage you to respond to this request by submitting comments and related materials. We will post all comments received, without change, to http://dms.dot.gov; they will include any personal information you provided. We have an agreement with DOT to use the Docket Management Facility. Please see the paragraph on DOT's “Privacy Act Policy” below.

Submitting comments: If you submit a comment, please include your name and address, identify the docket number [USCG-2007-27793], indicate the specific section of the document to which each comment applies, providing a reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Request

1. Title: Application for Vessel Inspection, Waiver, and Continuous Synopsis Record.

OMB Control Number: 1625-0002.

Summary: This collection of information requires the owner, operator, agent, or master of a vessel to apply in writing to the Coast Guard before the commencement of an inspection for certification, when a waiver is desired from the requirements of navigation and vessel inspection, or to request a Continuous Synopsis Record.

Need: With the objective of protecting life, property, and the environment, 46 U.S.C. 3306 and 3309 authorize the Coast Guard to establish regulations for vessels subject to inspection. These reporting requirements are part of the Coast Guard's Marine Safety Program.

Respondents: Vessel owner, operator, agent, master, or interested U.S. Government agency.

Frequency: On occasion, annually, or on a 5-year cycle.

Burden Estimate: The estimated burden has decreased from 979 hours to 848 hours a year.

2. Title: Various International Agreement Safety Certificates and Documents.

OMB Control Number: 1625-0017.

Summary: These 15 forms are based on the United States' adoption of the International Convention for Safety of Life at Sea, (SOLAS) 1974. The 15 forms are evidence of compliance with this convention for U.S. vessels on international voyages. Without the proper certificates or documents, a U.S. vessel could be detained in foreign ports.

Need: SOLAS applies to all mechanically propelled cargo vessels of 500 or more gross tons (GT), and to all mechanically propelled passenger vessels carrying more than 12 passengers that engage in international voyages. SOLAS and 46 CFR 2.01-25 list certificates and documents that may be issued to vessels.

Respondents: Owners and operators of SOLAS vessels.

Frequency: On occasion.

Burden Estimate: The estimated burden has increased from 96 hours to 126 hours a year.

3. Title: Oil and Hazardous Materials Transfer Procedures.

OMB Control Number: 1625-0030.

Summary: The collection of information requires vessels with a cargo capacity of 250 barrels or more of oil or hazardous materials to develop and maintain transfer procedures. Transfer procedures provide basic safety information for operating transfer systems with the goal of pollution prevention.

Need: Title 33 U.S.C. 1231 authorizes the Coast Guard to prescribe regulations related to the prevention of pollution. Title 33 CFR part 155 prescribes pollution prevention regulations including those related to transfer procedures.

Respondents: Owners and operators of vessels.

Frequency: On occasion.

Burden Estimate: The estimated burden has increased from 89 hours to 133 hours a year.

4. Title: Waste Management Plans, Refuse Discharge Logs, and Letters of Instruction for Certain Persons-in-Charge (PIC).

OMB Control Number: 1625-0072.

Summary: This information is needed to ensure that certain U.S.-oceangoing vessels: (1) Develop and maintain a waste management plan; (2) maintain refuse discharge records; and (3) with certain individuals acting as PIC for the transfer of fuel receive a letter of instruction, for pollution prevention.

Need: This collection of information is needed as part of the Coast Guard's pollution prevention compliance program. Title 33 U.S.C. 1231 authorizes the Coast Guard to prescribe regulations related to the prevention of pollution. Title 33 CFR parts 151 and 155 prescribe pollution prevention regulations including those related to this collection.

Respondents: Owners, operators, masters, and persons-in-charge of vessels.

Frequency: On occasion.

Burden Estimate: The estimated burden has increased from 55,484 hours to 67,030 hours a year.

5. Title: Licensing and Manning Requirements for Officers on Towing Vessels.

OMB Control Number: 1625-0078.

Summary: Licensing and manning requirements ensure that towing vessels operating on the navigable waters of the U.S. are under the control of licensed officers who meet certain qualification and training standards.

Need: Title 46 CFR part 10 prescribes regulations for the licensing of maritime personnel. This information collection is necessary to ensure that a mariner's training information is available to assist in determining his or her overall qualifications to hold certain licenses.

Respondents: Owners and operators towing vessels.

Frequency: On occasion.

Burden Estimate: The estimated burden has increased from 17,159 hours to 19,746 hours a year.

Dated: April 5, 2007.
C.S. Johnson, Jr.,
Captain, U.S. Coast Guard, Acting Assistant Commandant for Command, Control, Communications, Computers and Information Technology.

[FR Doc. E7-6883 Filed 4-11-07; 8:45 am]

BILLING CODE 4910-15-P